DEPARTMENT OF COMMERCE

Foreign-Trade Zones Board

[Docket 5-2008]

Foreign-Trade Zone 244 - Riverside County, California, Application for Subzone, Skechers USA, Inc. (Footwear Distribution), Moreno Valley, California

An application has been submitted to the Foreign-Trade Zones (FTZ) Board (the Board) by the March Joint Powers Authority, grantee of FTZ 244, requesting special-purpose subzone status for the footwear warehouse/distribution facility of Skechers USA, Inc. (Skechers), in Moreno Valley, California. The application was submitted pursuant to the Foreign-Trade Zones Act, as amended (19 U.S.C. 81a-81u), and the regulations of the Board (15 CFR part 400). It was formally filed on February 1, 2008.

The proposed subzone facility (113 acres, 1 building, 1.8 million sq. ft., with a possible expansion of an additional building of 500,000 sq. ft.) will be constructed at Redlands Blvd. and Theodore St., just south of Freeway 60, Moreno Valley, California. The facility will be used for quality control, repairing, repackaging, labeling, ticketing, warehousing and distribution of foreign-origin footwear for both the U.S. market and for re-export. None of the activities which Skechers is proposing to perform under zone procedures would constitute manufacturing or processing under the FTZ Board's regulations. The application indicates that FTZ procedures would be used to support Skecher's California-based distribution activity in competition with facilities abroad.

FTZ procedures would exempt Skechers from customs duty payments on foreign products that are re-exported, some 5 percent of the plant's shipments. On its domestic shipments, duty payments would be deferred until the products are entered for consumption. The company may also realize certain logistical benefits related to the use of direct delivery and weekly customs entry procedures. The application indicates that the savings from FTZ procedures would help improve the plant's international competitiveness. In accordance with the Board's regulations, a member of the FTZ staff has been designated examiner to investigate the application and report to the Board.

Public comment is invited from interested parties. Submissions (original and 3 copies) shall be addressed to the Board's Executive Secretary at the address below. The closing period for their receipt is April 14, 2008. Rebuttal comments in response to material submitted during the foregoing period may be submitted during the subsequent 15-day period (to April 28, 2008).

A copy of the application will be available for public inspection at each of the following locations: March Joint Powers Authority, 23555 Meyer Drive, Riverside, California 92518; and, Office of the Executive Secretary, Foreign-Trade Zones Board, Room 2111, U.S. Department of Commerce, 1401 Constitution Avenue, NW., Washington, D.C. 20230-0002.

For further information, contact Diane Finver at Diane_Finver@ita.doc.gov or (202) 482-1367.

Dated: February 1, 2008.
Andrew McGilvray,
Executive Secretary.

[FR Doc. E8-2569 Filed 2-11-08; 8:45 am]

Billing Code: 3510-DS-S